DEPARTMENT OF DEFENSE

Department of the Air Force

[Docket ID: USAF-2010-0021]

Privacy Act of 1974; System of Records

AGENCY: Department of the Air Force, DoD.

ACTION: Notice to alter a system of records.

SUMMARY: The Department of the Air Force is proposing to alter a system of records notice in its existing inventory of records systems subject to the Privacy Act of 1974, (5 U.S.C. 552a), as amended.

DATES: The proposed action will be effective on August 23, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Room 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force systems of records notices subject to the Privacy Act of 1974, (5 U.S.C. 552a), as amended, have been published in the Federal Register and are available from the Department of the Air Force Privacy Office, Air Force Privacy Act Office, Office of Warfighting Integration and Chief Information officer, ATTN: SAF/XCPPI, 1800 Air Force Pentagon, Washington, DC 20330-1800.

The proposed systems report, as required by 5 U.S.C. 552a(r) of the Privacy Act, was submitted on July 2, 2010, to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996; 61 FR 6427).

Dated: July 19, 2010.
Mitchell S. Bryman,
Alternate OSD Federal Register Liaison Officer, Department of Defense.

F051 AFJA I

System name:

Courts-martial and Article 15 Records (December 31, 2008; 73 FR 80376).

Changes:

* * * * *

System name:

Delete entry and replace with “Military Justice and Magistrate Court Records.”

System location:

Delete entry and replace with “The Judge Advocate General, Headquarters United States Air Force, 1420 Air Force Pentagon, Washington, DC 20330-1420.

Headquarters Air Force Personnel Center, 550 C Street W, Randolph Air Force Base, TX 78150-4746.

Headquarters of major commands and all levels down to and including Air Force installations. Official mailing addresses are published as an appendix to the Air Force's compilation of systems of records notices.”

Categories of individuals covered in the system:

Delete entry and replace with “Individuals subject to the Uniform Code of Military Justice and the Magistrate court program.”

Categories of records in the system:

Delete entry and replace with “Records of trial by courts-martial, Social Security Number (SSN), military service number, individual's full name, nonjudicial punishment under Article 15 of the Uniform Code of Military Justice, and magistrate court proceedings. Records include case summaries, military justice activity reports, witness statements, investigative reports, medical records, personnel records, financial records, reports of investigations, commander directed inquiries, and other reports and records from local, state, and other federal agencies.”

Authority for maintenance of the system:

Delete entry and replace with “10 U.S.C. 8013, Secretary of the Air Force: Powers and duties; delegation by; 10 U.S.C. 8037, Judge Advocate General, Deputy Judge Advocate General: Appointment and duties; 10 U.S.C. 815(g), Commanding officer's nonjudicial punishment; 10 U.S.C. 854, Record of Trial; 10 U.S.C. 865, Disposition of records after review by the convening authority; 10 U.S.C. 938, Complaints of Wrongs; 18 U.S.C. 3401, Misdemeanors; application of probation laws; AFI 51-201, Administration of Military Justice; AFI 51-202, Nonjudicial Punishment; AFI 51-905, Use of Magistrate Judges for Trial of Misdemeanors Committed by Civilians; and E.O. 9397 (SSN), as amended.”

Purpose(s):

Delete entry and replace with “Investigate, adjudicate and prosecute adverse action cases, Article 138 complaints, and other administrative and criminal actions related to violation of federal law and regulations and state law occurring on and off a military installation; for use by appellate authorities and federal and state licensing authorities; for statistical purposes and to manage case processing; and to provide victims and witnesses information consistent with the requirements of the Victim and Witness Assistance Program, the Victims' Rights and Restitution Act of 1990, and other laws and regulations governing the providing of information to victims and witnesses related to military justice actions and criminal cases and their administrative disposition.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

Records from this system may be disclosed to other federal agencies and courts for official purposes, to include a determination of rights and entitlements of individuals concerned.

To a governmental board or agency or health care professional society or organization if such record or document is needed to perform licensing or professional standards monitoring; to medical institutions or organizations for official purposes, wherein the individual has applied for or been granted authority or employment to provide health care services if such record or document is needed to assess the professional qualifications of such member.

To victims and witnesses for the purposes of providing information consistent with the requirements of the Victim and Witness Assistance Program, the Victims' Rights and Restitution Act of 1990, and other laws and regulations governing the providing of information to victims and witnesses related to military justice actions and criminal cases, and their administrative disposition.

The DoD `Blanket Routine Uses' set forth at the beginning of the Air Force's compilation of systems of records notices apply to this system.”

Policies and practices for storing, retrieving, accessing, retaining, and disposing of records in the system:

Storage:

Delete entry and replace with “Paper files and electronic storage media.”

* * * * *

Retention and disposal:

Delete entry and replace with “Magistrate court records are destroyed 3 years after a case is closed.

Article 15 records maintained at base legal offices are destroyed after 3 years or when no longer needed, whichever is later, and forwarded for filing in the member's permanent master personnel record.

Original court-martial records of trials are retired as permanent records. Duplicate copies of general courts-martial records maintained at base legal offices are destroyed 2 years after final review. Duplicate copies of all other courts-martial records maintained at base legal offices are destroyed 1 year after final review.

Records and reports stored in computer databases are maintained until UCMJ action is final or when no longer needed, whichever is later.

Paper records are destroyed by tearing into pieces, shredding, pulping, macerating or burning. Computer records are destroyed by overwriting or permanently deleting.”

* * * * *

F051 AFJA I

System name:

Military Justice and Magistrate Court Records.

System location:

The Judge Advocate General, Headquarters United States Air Force, 1420 Air Force Pentagon, Washington, DC 20330-1420.

Headquarters Air Force Personnel Center, 550 C Street W, Randolph Air Force Base, TX 78150-4746.

Headquarters of major commands and all levels down to and including Air Force installations. Official mailing addresses are published as an appendix to the Air Force's compilation of systems of records notices.

Categories of individuals covered by the system:

Individuals subject to the Uniform Code of Military Justice and the Magistrate court program.

Categories of records in the system:

Records of trial by courts-martial, Social Security Number (SSN), military service number, individual's full name, nonjudicial punishment under Article 15 of the Uniform Code of Military Justice, and magistrate court proceedings. Records include case summaries, military justice activity reports, witness statements, investigative reports, medical records, personnel records, financial records, reports of investigations, commander directed inquiries, and other reports and records from local, state, and other federal agencies.

Authority for maintenance of the system:

10 U.S.C. 8013, Secretary of the Air Force: Powers and duties; delegation by; 10 U.S.C. 8037, Judge Advocate General, Deputy Judge Advocate General: Appointment and duties; 10 U.S.C. 815(g), Commanding officer's nonjudicial punishment; 10 U.S.C. 854, Record of Trial; 10 U.S.C. 865, Disposition of records after review by the convening authority; 10 U.S.C. 938, Complaints of Wrongs; 18 U.S.C. 3401, Misdemeanors; application of probation laws; AFI 51-201, Administration of Military Justice; AFI 51-202, Nonjudicial Punishment; AFI 51-905, Use of Magistrate Judges for Trial of Misdemeanors Committed by Civilians; and E.O. 9397 (SSN), as amended.

Purpose(s):

Investigate, adjudicate and prosecute adverse action cases, Article 138 complaints, and other administrative and criminal actions related to violation of federal law and regulations and state law occurring on and off a military installation; for use by appellate authorities and federal and state licensing authorities; for statistical purposes and to manage case processing; and to provide victims and witnesses information consistent with the requirements of the Victim and Witness Assistance Program, the Victims' Rights and Restitution Act of 1990, and other laws and regulations governing the providing of information to victims and witnesses related to military justice actions and criminal cases and their administrative disposition.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Records from this system may be disclosed to other federal agencies and courts for official purposes, to include a determination of rights and entitlements of individuals concerned.

To a governmental board or agency or health care professional society or organization if such record or document is needed to perform licensing or professional standards monitoring; to medical institutions or organizations for official purposes, wherein the individual has applied for or been granted authority or employment to provide health care services if such record or document is needed to assess the professional qualifications of such member.

To victims and witnesses for the purposes of providing information consistent with the requirements of the Victim and Witness Assistance Program, the Victims' Rights and Restitution Act of 1990, and other laws and regulations governing the providing of information to victims and witnesses related to military justice actions and criminal cases, and their administrative disposition.

The DoD ‘Blanket Routine Uses’ set forth at the beginning of the Air Force's compilation of systems of records notices apply to this system.

Policies and practices for storing, retrieving, accessing, retaining, and disposing of records in the system:

Storage:

Paper files and electronic storage media.

Retrievability:

Records are retrieved by name, Social Security Number (SSN), or military service number.

Safeguards:

Records are accessed by authorized personnel as necessary to accomplish their official duties. Paper records are stored in vaults and locked rooms or cabinets. Computer records have access controls, to include password protection and encryption. Physical servers reside in an office space behind cyber lock.

Retention and disposal:

Magistrate court records are destroyed 3 years after a case is closed.

Article 15 records maintained at base legal offices are destroyed after 3 years or when no longer needed, whichever is later, and forwarded for filing in the member's permanent master personnel record.

Original court-martial records of trials are retired as permanent records. Duplicate copies of general courts-martial records maintained at base legal offices are destroyed 2 years after final review. Duplicate copies of all other courts-martial records maintained at base legal offices are destroyed 1 year after final review.

Records and reports stored in computer databases are maintained until UCMJ action is final or when no longer needed, whichever is later.

Paper records are destroyed by tearing into pieces, shredding, pulping, macerating or burning. Computer records are destroyed by overwriting or permanently deleting.

System manager(s) and address:

The Judge Advocate General, Headquarters United States Air Force, 1420 Air Force Pentagon, Washington, DC 20330-1420.

Notification procedure:

Individuals seeking to determine whether information about themselves is contained in this system of records should address written inquiries to the Judge Advocate General, Headquarters United States Air Force, 1420 Air Force Pentagon, Washington, DC 20330-1420.

Individuals should provide their full name and Social Security Number (SSN) and/or military service number; unit of assignment; date of trial; type of court; date of discharge action; and date of punishment imposed in the case of Article 15 action may also be necessary, as appropriate.

Record access procedures:

Individuals seeking to access records about themselves contained in this system should address requests to the Judge Advocate General, Headquarters United States Air Force, 1420 Air Force Pentagon, Washington, DC 20330-1420.

Individuals should provide their full name and Social Security Number (SSN) and/or military service number; unit of assignment; date of trial; type of court; date of discharge action; and date of punishment imposed in the case of Article 15 action may also be necessary, as appropriate.

Contesting record procedures:

The Air Force rules for accessing records, and for contesting contents and appealing initial agency determinations are published in Air Force Instruction 33-332; 32 CFR Part 806b; or may be obtained from the system manager.

Record source categories:

Information from almost any source can be included if it is relevant and material to the proceedings. These include, but are not limited to, witness statements; police reports; reports from local, state, and federal agencies; information submitted by an individual making an Article 138 complaint; Inspector General investigations; and commander directed inquiries.

Exemptions claimed for the system:

Parts of this system may be exempt pursuant to 5 U.S.C. 552a(j)(2) if the information is compiled and maintained by a component of the agency that performs as its principle function any activity pertaining to the enforcement of criminal laws.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. Note: When claimed, this exemption allows limited protection of investigative reports maintained in a system of records used in personnel or administrative actions.

An exemption rule for this record system has been promulgated in accordance with the requirements of 5 U.S.C. 553(b)(1), (2), and (3), (c) and (e) and published in 32 CFR part 806b.

[FR Doc. 2010-17962 Filed 7-21-10; 8:45 am]

BILLING CODE 5001-06-P